DEPARTMENT OF DEFENSE

Department of the Navy

Notice of Availability of Government-Owned Invention; Available for Licensing; Correction

AGENCY: Department of the Navy, DOD.

ACTION: Notice; correction.

SUMMARY: The Department of the Navy published a document in the Federal Register of May 23, 2003, concerning a notice of availability of Government-owned inventions; available for licensing; U.S Patent Application Serial No.10/390,404 entitled “A Port Security Barrier System.” Navy Case No.83,881. And Navy Case No. 84,694 entitled “In Port Barrier System (IPBS).” The document contained an incorrect address and incorrect contact information.

FOR FURTHER INFORMATION CONTACT: Kurt Buehler, (805) 982-4886.

Correction

In the Federal Register of May 23, 2003, in FR Doc. 03-12956, on page 28200, in the third column, correct the ADDRESS and FOR FURTHER INFORMATION CONTACT captions to read:

ADDRESS: Requests for copies of the patent application cited should be directed to Kurt Buehler, NFESC, Code 423, 1100 23rd Ave., Port Hueneme, CA 93043-4370, and must include the Navy Case number.

FOR FURTHER INFORMATION CONTACT: Kurt Buehler, Office of Research and Technology Applications, NFESC, Code 423, 1100 23rd Ave, Port Hueneme, CA 93043-4370, telephone (805) 982-4886.

Dated: July 21, 2003.
E.F. McDonnell,
Major, U.S. Marine Corps, Federal Register Liaison Officer.

[FR Doc. 03-19212 Filed 7-28-03; 8:45 am]

BILLING CODE 3810-FF-P